DEPARTMENT OF JUSTICE

Antitrust Division

Notice Pursuant to the National Cooperative Research and Production Act of 1993—Advanced Lead-Acid Battery Consortium (“ALABC”)

Notice is hereby given that, on April 3, 2000, pursuant to Section 6(a) of the National Cooperative Research and Production Act of 1993, 15 U.S.C. 4301 et seq. (“the Act”), Advanced Lead-Acid Battery Consortium (“ALABC”) has filed written notifications simultaneously with the Attorney General and the Federal Trade Commission disclosing changes in its membership status. The notifications were filed for the purpose of extending the Act's provisions limiting the recovery of antitrust plaintiffs to actual damages under specified circumstances. Specifically, BMG-Metall & Recycling GMBH, Arnoldstein, AUSTRIA; Bernard Dumas, S.A., Bergerac, FRANCE; and TAFE, Ltd., Chennai, INDIA have been added as parties to this venture.

No other changes have been made in either the membership or planned activity of the group research project. Membership in this group research project remains open, and ALABC intends to file additional written notification disclosing all changes in membership.

On June 15, 1992, ALABC filed its original notification pursuant to section 6(a) of the Act. The Department of Justice published a notice in the Federal Register pursuant to section 6(b) of the Act on July 29, 1992 (57 FR 33522).

The last notification was filed with the Department on January 3, 2000. A notice was published in the Federal Register pursuant to section 6(b) of the Act on June 26, 2000 (65 FR 39427).

Constance K. Robinson,
Director of Operations, Antitrust Division.

[FR Doc. 01-7777 Filed 3-28-01; 8:45 am]

BILLING CODE 4410-11-M